DEPARTMENT OF TRANSPORTATION

Federal Aviation Administration

[Summary Notice No. PE-2003-29]

Petitions for Exemption; Dispositions of Petitions Issued

AGENCY: Federal Aviation Administration (FAA), DOT.

ACTION: Notice of dispositions of prior petitions for exemption.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Sandy Buchanan-Sumter (202) 267-7271, Vanessa Wilkins (202) 267-8029,or Denise Emrick (202) 267-5174, Office of Rulemaking (ARM-1), Federal Aviation Administration, 800 Independence Avenue, SW., Washington, DC 20591.

This notice is published pursuant to 14 CFR 11.85 and 11.91.

Issued in Washington, DC, on May 14, 2003.
Donald P. Byrne,
Assistant Chief Counsel for Regulations.

Dispositions of Petitions

Docket No.: FAA-2002-14166.

Petitioner: Kent W. Ewing.

Section of 14 CFR Affected: 14 CFR 91.109(a).

Description of Relief Sought/Disposition: To permit Kent W. Ewing to conduct certain flight instruction and simulated instrument flights to meet the recent experience requirements in Beechcraft Bononza, Baron and Travel Air airplanes equipped with a functioning throwover control wheel in place of functioning dual controls. Grant, January 27, 2003, Exemption No. 7961.

Docket No.: FAA-2002-14098.

Petitioner: Brian Daniel.

Section of 14 CFR Affected: 14 CFR 61.109(d)(2)(i).

Description of Relief Sought/Disposition: To permit Brian Daniel to apply for a private pilot certificate with rotorcraft category and gyroplane class rating without meeting the night cross-country flight training requirement. Grant, January 27, 2003, Exemption No. 7417A.

Docket No.: FAA-2000-8337.

Petitioner: Alaska's Lake Clark Inn (ALCI).

Section of 14 CFR Affected: 14 CFR 135.143(c)(2).

Description of Relief Sought/Disposition: To permit ALCI to operate certain aircraft under part 135 without a TSO-C112 (Mode S) transponder installed on those aircraft. Grant, January 17, 2003, Exemption No. 7426A.

Docket No.: FAA-2002-12484.

Petitioner: Dynamic Aviation Group, Inc. (Dynamic).

Section of 14 CFR Affected: 14 CFR 137.53(c)(2).

Description of Relief Sought/Disposition: To permit Dynamic to conduct aerial applications of insecticides or pheromones from aircraft not equipped with a load jettisoning system. Grant, January 16, 2003, Exemption No. 7827B.

Docket No.: FAA-2000-8454.

Petitioner: United Air Lines, Inc. (United).

Section of 14 CFR Affected: 14 CFR 121.434(c)(1)(ii).

Description of Relief Sought/Disposition: To permit United to substitute a qualified and authorized check airman in place of an FAA inspector to observe a qualifying pilot in command (PIC) while that PIC is performing prescribed duties during at least one flight leg that includes a takeoff and a landing. Grant, January 16, 2003, Exemption No. 6570D.

Docket No.: FAA-2000-8525.

Petitioner: United Air Lines, Inc.

Section of 14 CFR Affected: 14 CFR 121.135(a)(3).

Description of Relief Sought/Disposition: To permit United to use electronic digital technology to document the revision level in lieu of printing the last revision date on each page of each manual required under § 121.133. Grant, January 16, 2003, Exemption No. 6612C.

Docket No.: FAA-2001-9672.

Petitioner: Hangar 10, Inc.

Section of 14 CFR Affected: 14 CFR 119.3.

Description of Relief Sought/Disposition: To permit Hangar 10 to operate certain Convair-Liner 340 airplanes with a maximum payload greater than 7,500 pounds in all-cargo service under 14 CFR part 135 rather than under 14 CFR part 121. Denial, January 13, 2003, Exemption No. 7951.

Docket No.: FAA-2001-9594.

Petitioner: Edwards & Associates, Inc. (Edwards).

Section of 14 CFR Affected: 14 CFR 135.143(c)(2).

Description of Relief Sought/Disposition: To permit Edwards to operate certain aircraft under part 135 without a TSO-C112 (Mode S) transponder installed on those aircraft. Grant, January 13, 2003, Exemption No. 7524A.

Docket No.: FAA-2001-9593.

Petitioner: TNT Leasing Company, Inc. (TNT).

Section of 14 CFR Affected: 14 CFR 135.143(c)(2)

Description of Relief Sought/Disposition: To permit TNT to operate certain aircraft under part 135 without a TSO-C112 (Mode S) transponder installed on those aircraft. Grant, January 13, 2003, Exemption No. 7525A.

Docket No.: FAA-2001-8743.

Petitioner: Beaver Air Taxi, L.L.C. (Beaver Air).

Section of 14 CFR Affected: 14 CFR 135.143(c)(2).

Description of Relief Sought/Disposition: To permit Beaver Air to operate certain aircraft under part 135 without a TSO-C112 (Mode S) transponder installed on those aircraft. Grant, January 13, 2003, Exemption No. 7517A.

Docket No.: FAA-2002-14147.

Petitioner: Helicorp, Inc.

Section of 14 CFR Affected: 14 CFR 135.143(c)(2).

Description of Relief Sought/Disposition: To permit Helicorp to operate certain aircraft under part 135 without a TSO-C112 (Mode S) transponder installed on those aircraft. Grant, January 13, 2003, Exemption No. 7947.

Docket No.: FAA-2002-14105.

Petitioner: Michael S. Friedman.

Section of 14 CFR Affected: 14 CFR 91.109(a).

Description of Relief Sought/Disposition: To permit Michael S. Friedman to conduct certain flight instruction and simulated instrument flights to meet the recent experience requirements in Beechcraft Bonanza, Baron, and Travel Air airplanes equipped with a functioning throwover control wheel in place of functioning dual controls. Grant, January 9, 2003, Exemption No. 7950.

Docket No.: FAA-2003-14204.

Petitioner: Abilene Aero, Inc. (Abilene).

Section of 14 CFR Affected: 14 CFR 135.143(c)(2).

Description of Relief Sought/Disposition: To permit Abilene to operate certain aircraft under part 135 without a TSO-C112 (Mode S) transponder installed on those aircraft. Grant, January 13, 2003, Exemption No. 7948.

Docket No.: FAA-2002-14137.

Petitioner: United Parcel Service of America, Inc. (UPS).

Section of 14 CFR Affected: 14 CFR 121.344(f).

Description of Relief Sought/Disposition: To permit UPS to operate eight Airbus Industrie 300-600 (A300-600) airplanes manufactured after August 18, 2002, without those airplanes being equipped with a digital flight data recorder capable of recording parameter (a)(84) in accordance with the range, accuracy, resolution, and recording interval specified in Appendix M to part 121. Grant, January 6, 2003, Exemption No. 7940.

Docket No.: FAA-2002-13887.

Petitioner: Henry D. Canterbury.

Section of 14 CFR Affected: 14 CFR 91.109(a) and (b)(3).

Description of Relief Sought/Disposition: To permit Henry D. Canterbury to conduct certain flight instruction and simulated instrument flights to meet the recent experience requirements in certain Beechcraft airplanes equipped with a functioning throwover control wheel in place of functioning dual control. Grant, January 3, 2003, Exemption No. 7941.

Docket No.: FAA-2001-8786.

Petitioner: Lynden Air Cargo (LAC).

Section of 14 CFR Affected: 14 CFR 121.344.

Description of Relief Sought/Disposition: To permit LAC to operate five Lockheed Martin 382G Hercules aircraft (L382G) (registration Nos. N401LC, N402LC, N403LC, N404LC, and N405LC; serial Nos. 4606, 4698, 4590, 4763, and 5025) under part 121 without equipping each aircraft with an approved flight data recorder. Grant, January 21, 2003, Exemption No. 6921C.

Docket No.: FAA-2001-8754.

Petitioner: Everts Air Fuel, Inc. (Everts).

Section of 14 CFR Affected: 14 CFR 91.9(a).

Description of Relief Sought/Disposition: To permit Everts to operate its McDonnell Douglas DC-6 aircraft (registration Nos. N451CE, N251CE, N444CE, and N888DG) at a 5-percent-increased zero fuel weight and landing weight for operating all-cargo aircraft to provide supplies to people in isolated villages in Alaska. Grant, January 27, 2003, Exemption No. 4296J.

Docket No.: FAA-2002-13834.

Petitioner: Richard L. Flechsig.

Section of 14 CFR Affected: 14 CFR 121.383(c).

Description of Relief Sought/Disposition: To permit Richard L. Flechsig to act as a pilot in operations conducted under part 121 after reaching his 60th birthday. Denial, January 2, 2003, Exemption No. 7939.

Docket No.: FAA-2002-14080.

Petitioner: Air 1st Aviation Companies of Oklahoma, Inc. (Air 1st).

Section of 14 CFR Affected: 14 CFR 135.143(c)(2).

Description of Relief Sought/Disposition: To permit Air 1st to operate certain aircraft under part 135 without a TSO-C112 (Mode S) transponder installed on those aircraft. Grant, December 24, 2002, Exemption No. 7938.

Docket No.: FAA-2000-8050.

Petitioner: Alexandria Aviation, Inc. (AAI).

Section of 14 CFR Affected: 14 CFR 135.143(c)(2).

Description of Relief Sought/Disposition: To permit AAI to operate certain aircraft under part 135 without a TSO-C112 (Mode S) transponder installed on those aircraft. Grant, December 24, 2002, Exemption No. 7937.

Docket No.: FAA-2000-8140.

Petitioner: Alaska Island Air, Inc. (AIA).

Section of 14 CFR Affected: 14 CFR 135.143(c)(2).

Description of Relief Sought/Disposition: To permit AIA to operate certain aircraft under part 135 without a TSO-C112 (Mode S) transponder installed on those aircraft. Grant, December 24 2002, Exemption No. 7936.

Docket No.: FAA-2000-7992.

Petitioner: Hartley, Inc., dba Branch River Air Service (Branch River).

Section of 14 CFR Affected: 14 CFR 135.143(c)(2).

Description of Relief Sought/Disposition: To permit Branch River to operate certain aircraft under part 135 without a TSO-C112 (Mode S) transponder installed on those aircraft. Grant, December 24, 2002, Exemption No. 7396A.

Docket No.: FAA-2000-8142.

Petitioner: J.R. Aviation, Inc. (JRA).

Section of 14 CFR Affected: 14 CFR 135.143 (c)(2).

Description of Relief Sought/Disposition: To permit JRA to operate certain aircraft under part 135 without a TSO-C112 (Mode S) transponder installed on those aircraft. Grant, December 24, 2002, Exemption No. 7423A.

Docket No.: FAA-2000-8215.

Petitioner: Telesis TransAir, Inc. (TTI).

Section of 14 CFR Affected: 14 CFR 135.143(c)(2).

Description of Relief Sought/Disposition: To permit TTI to operate certain aircraft under part 135 without a TSO-C112 (Mode S) transponder installed on those aircraft. Grant, December 24, 2002, Exemption No. 7391B.

Docket No.: FAA-2002-11712.

Petitioner: Franklin Peter Toups.

Section of 14 CFR Affected: 14 CFR 61.65(a)(1) and 61.153(d)(1).

Description of Relief Sought/Disposition: To permit Mr. Toups, whose airman certificate (No. 439880504) was revoked on September 28, 1990, to take a single checkride to obtain his airline transport pilot certificate and instrument rating without first retaking the private and commercial pilot practical tests. Denial, January 13, 2003, Exemption No. 7952.

Docket No.: FAA-2001-10969.

Petitioner: Andrew R. Young.

Section of 14 CFR Affected: 14 CFR 61.65(d)(1).

Description of Relief Sought/Disposition: To permit Mr. Young to apply for an instrument-airplane rating having logged at least 10 hours of cross-country flight time as pilot in command (PIC) in an airplane instead of having logged at least 50 hours of cross-country flight time as PIC, of which at least 10 hours are in airplanes. Denial, December 18, 2002, Exemption No. 7935.

Docket No.: FAA-2001-10191.

Petitioner: United States Air Force (USAF).

Section of 14 CFR Affected: 14 CFR 91.209(a)(1) and (b).

Description of Relief Sought/Disposition: To permit the USAF to conduct night-vision-goggle lights-out training in certain military operations areas. Grant, January 24, 2003, Exemption No. 7960.

Docket No.: FAA-2002-14041.

Petitioner: American Airlines (AAL).

Section of 14 CFR Affected: 14 CFR 121.313(j)(1).

Description of Relief Sought/Disposition: To permit AAL to operate 15 Airbus Industries A300-B4-605R (A-300) airplanes after April 9, 2003. Denial, February 7, 2003, Exemption No. 7970.

Docket No.: FAA-2002-13988.

Petitioner: AirTran Airways, Inc. (AirTran).

Section of 14 CFR Affected: 14 CFR 121.313(J).

Description of Relief Sought/Disposition: To permit AirTran to operate 12 McDonnell Douglas DC-9 airplanes after April 9, 2003. Denial, February 7, 2003, Exemption No. 7969.

Docket No.: FAA-2001-11097.

Petitioner: Business Jet Services, LTD (BJS).

Section of 14 CFR Affected: 14 CFR 135.145.

Description of Relief Sought/Disposition: To permit BJS to place turbojet airplanes in service under part 135 without conducting proving tests. Denial, January 31, 2003, Exemption No. 7967.

Docket No.: FAA-2001-9033.

Petitioner: Silverhawk Aviation, Inc. (Silverhawk).

Section of 14 CFR Affected: 14 CFR 135.143(c)(2).

Description of Relief Sought/Disposition: To permit Silverhawk to operate certain aircraft under part 135 without a TSC-C112 (Mode S) transponder installed on those aircraft. Grant, February 7, 2003, Exemption No. 7499A.

Docket No.: FAA-2001-9105.

Petitioner: Ameristar Jet Charter, Inc. (Ameristar).

Section of 14 CFR Affected: 14 CFR 135.143(c)(2).

Description of Relief Sought/Disposition: To permit Ameristar to operate certain aircraft under part 135 without a TSC-C112 (Mode S) transponder installed on those aircraft. Grant, February 7, 2003, Exemption No. 7500A.

Docket No.: FAA-2001-9081.

Petitioner: Helicopter Experts, Inc. (HEI).

Section of 14 CFR Affected: 14 CFR 135.143(c)(2).

Description of Relief Sought/Disposition: To permit HEI to operate certain aircraft under part 135 without a TSO-C112 (Mode S) transponder installed on those aircraft. Grant, February 7, 2003, Exemption No. 7497A.

Docket No.: FAA-2001-8740.

Petitioner: Helicopter AirTransport, Inc. (HATI).

Section of 14 CFR Affected: 14 CFR 133.45(e)(1).

Description of Relief Sought/Disposition: To permit HATI to conduct Class D rotorcraft-load combination operations with an Agusta A109E certificated in the normal category under 14 CFR part 27. Grant, February 5, 2003, Exemption No. 7486A.

Docket No.: FAA-2002-14012.

Petitioner: The Blue Angels.

Section of 14 CFR Affected: 14 CFR 91.117(a) and (b), 91.119(c), and 91.303(c), (d), and (e).

Description of Relief Sought/Disposition: To permit The Blue Angels to conduct demonstration rehearsals involving low-level, high-speed, and aerobatic flight, subject to certain conditions and limitations. Grant February 5, 2003, Exemption No. 4504G.

Docket No.: FAA-2000-8436.

Petitioner: FAA Technical Center.

Section of 14 CFR Affected: 14 CFR 91.117(a), 91.119(c), 91.159(a), and 91.303(e).

Description of Relief Sought/Disposition: To permit the FAA Technical Center to conduct flight operations in support of its research and development projects without meeting certain FAA regulations governing aircraft speed, minimum safe altitudes, cruising altitudes for flights conducted under visual flight rules, and aerobatic flight. Grant, February 6, 2003, Exemption No. 6883B.

Docket No.: FAA-2000-8486.

Petitioner: Hyannis Air Service, Inc. dba Cape Air/Nantucket Airlines.

Section of 14 CFR Affected: 14 CFR 135.143(c)(2).

Description of Relief Sought/Disposition: To permit HAS to operate certain aircraft under part 135 without a TSO-C112 (Mode S) transponder installed on those aircraft. Grant, February 7, 2003, Exemption No. 7492A.

Docket No.: FAA-2002-13995.

Petitioner: Blue Water Aviation, Inc.

Section of 14 CFR Affected: 14 CFR 135.152(a).

Description of Relief Sought/Disposition: To permit Blue Water Aviation to operate its Canadair Challenger 601-1A aircraft (CL-601) under part 135 without installing on the aircraft a digital flight data recorder capable of recording all required parameters. Denial, February 12, 2003, Exemption No. 7978.

Docket No.: FAA-2003-14323.

Petitioner: Air Transport International LLC (ATI).

Section of 14 CFR Affected: 14 CFR 121.313(j)(1).

Description of Relief Sought/Disposition: To permit ATI to operate its fleet of McDonnell Douglas DC-8 aircraft after April 9, 2003, that do not meet the safety requirements set forth in 14 CFR 25.795(a). Denial, February 12, 2003, Exemption No. 7977.

Docket No.: FAA-2003-14422.

Petitioner: Trans States Airlines, Inc. (TSA).

Section of 14 CFR Affected: 14 CFR 121.313(j)(1).

Description of Relief Sought/Disposition: To permit TSA to operate its fleet of BAE Systems Limited Jetstream 4100 aircraft after April 9, 2003, that do not meet the safety requirements set forth in 14 CFR 25.795(a). Denial, February 12, 2003, Exemption No. 7975.

Docket No.: FAA-2002-13274.

Petitioner: China Airlines, Ltd. (CAL).

Section of 14 CFR Affected: 14 CFR 61.77(a) and (b) and 63.23(a) and (b).

Description of Relief Sought/Disposition: To permit CAL airmen who operate certain U.S.-registered aircraft that are leased to a non-U.S. citizen, for carrying persons or property for compensation or hire, to be eligible for a special purpose pilot authorization and a special purpose flight engineer certificate, without holding a current foreign license or certificate issued by a foreign contracting state to the Convention on International Civil Aviation. Grant, February 12, 2003, Exemption No. 7980.

Docket No.: FAA-2002-13747.

Petitioner: James T. Northington.

Section of 14 CFR Affected: 14 CFR 121.383(c).

Description of Relief Sought/Disposition: To permit James T. Northington to act as a pilot in operations conducted under part 121 after reaching his 60th birthday. Denial, February 10, 2003, Exemption No. 7973.

Docket No.: FAA-2002-13938.

Petitioner: Walter P. Sullivan.

Section of 14 CFR Affected: 14 CFR 121.383(c).

Description of Relief Sought/Disposition: To permit Walter P. Sullivan to act as a pilot in operations conducted under part 121 after reaching his 60th birthday. Denial, February 10, 2003, Exemption No. 7974.

Docket No.: FAA-2000-8093.

Petitioner: Headquarters Air Force Flight Standards Agency.

Section of 14 CFR Affected: 14 CFR 91.177(a)(2) and 91.179 (b)(1).

Description of Relief Sought/Disposition: To permit the Air Force to conduct low-level operations without complying with en route minimum altitudes for flight under instrument flight rules (IFR) or direction of flight requirements for IFR en route segments in uncontrolled airspace. Grant, February 11, 2003, Exemption No. 4371H.

Docket No.: FAA-2001-10356.

Petitioner: U.S. Army Special Operations Command (USASOC).

Section of 14 CFR Affected: 14 CFR 91.177(a)(2) and 91.179(b)(1).

Description of Relief Sought/Disposition: To permit properly equipped USASOC aircraft to conduct low-level operations without complying with en route minimum altitudes for flight under instrument flight rules (IFR) or direction of flight requirements for IFR en route segment in uncontrolled airspace. Grant, February 11, 2003, Exemption No. 7631A.

Docket No.: FAA-2003-14453.

Petitioner: DFW Air Transport, Inc. (DFW).

Section of 14 CFR Affected: 14 CFR 35.143(c)(2).

Description of Relief Sought/Disposition: To permit DFW to operate certain aircraft under part 135 without a TSO-C112 (Mode S) transponder installed on those aircraft. Grant, February 25, 2003, Exemption No. 7984.

Docket No.: FAA-2003-14350.

Petitioner: Helicopter Experts, Inc.

Section of 14 CFR Affected: 14 CFR 135.143(c)(2).

Description of Relief Sought/Disposition: To permit Helicopter Experts to operate certain aircraft under part 135 without a TSO-C112 (Mode S) transponder installed on those aircraft. Grant, February 25, 2003, Exemption No. 7986.

Docket No.: FAA-2003-14331.

Petitioner: Sea Island Aviation International, Inc.

Section of 14 CFR Affected: 14 CFR 135.143(c)(2).

Description of Relief Sought/Disposition: To permit Sea Island to operate certain aircraft under part 135 without a TSO-C112 (Mode S) transponder installed on those aircraft. Grant, February 25, 2003, Exemption No. 7989.

Docket No.: FAA-2000-8463.

Petitioner: Peninsula Airways, Inc. (PenAir).

Section of 14 CFR Affected: 14 CFR 91.323(b)(4).

Description of Relief Sought/Disposition: To permit PenAir to operate one Grumman G-21A Goose aircraft at a maximum weight of 8,920 pounds, which exceeds that aircraft's maximum certificated weight. Grant, February 27, 2003, Exemption No. 6963B.

Docket No.: FAA-2001-9282.

Petitioner: Air Transport Association of America, Inc. (ATA).

Section of 14 CFR Affected: 14 CFR 63.39(b)(1) and (2), and 121.425(a)(2)(i) and (ii).

Description of Relief Sought/Disposition: To permit ATA-member airlines and other qualifying part 121 certificated holders conducting part 121 approved flight engineer training programs to meet the certification requirements of § 63.39(b)(1) and (2) concurrently with the qualification requirements of § 121.425(a)(2)(i) and (ii) in a single flight check. Grant, February 27, 2003, Exemption No. 4901H.

Docket No.: FAA-2001-8762.

Petitioner: Regional Airline Association (RAA).

Section of 14 CFR Affected: 14 CFR 91.203.

Description of Relief Sought/Disposition: To permit RAA-member airlines to temporarily operate certain U.S.-registered aircraft in domestic airline operations without the airworthiness certificate or certificate of aircraft registration, or both, onboard the aircraft. Grant, February 27, 2003, Exemption No. 5515F.

Docket No.: FAA-2001-8528.

Petitioner: Popular Rotorcraft Association, Inc. (PRA).

Section of 14 CFR Affected: 14 CFR 91.319(a).

Description of Relief Sought/Disposition: To permit PRA and its member flight instructors to conduct pilot and flight instructor training in an experimental gyroplane for compensation or hire. Grant, February 27, 2003, Exemption No. 5209H.

Docket No.: FAA-2001-9445.

Petitioner: Aurora Aviation.

Section of 14 CFR Affected: 14 CFR 135.143(c)(2).

Description of Relief Sought/Disposition: To permit Aurora to operate certain aircraft under part 135 without a TSO-C112 (Mode S) transponder installed on those aircraft. Grant, February 27, 2003, Exemption No. 7544A.

Docket No.: FAA-2003-14245.

Petitioner: Air Transport Association of America, Inc. (ATA).

Section of 14 CFR Affected: 14 CFR 121.311(f) and 121.391(d).

Description of Relief Sought/Disposition: To permit ATA member airlines and other similarly situated certificate holders operating under part 121 to continue to locate a required flight attendant at the midcabin flight attendant station during takeoff and landing on Boeing 767 airplanes. Grant, February 20, 2003, Exemption No. 4298I.

Docket No.: FAA-2001-8939.

Petitioner: Experimental Aircraft Association, Inc. (EAA).

Section of 14 CFR Affected: 14 CFR 103.1(a) and(e).

Description of Relief Sought/Disposition: To permit individuals authorized by EAA to give instruction in power ultralights that have a maximum empty weight of not more than 496 pounds, have a maximum fuel capacity of not more than 10 U.S. gallons, are not capable of more than 75 knots calibrated airspeed at full power in level flight, and have a power-off stall speed that does not exceed 35 knots calibrated airspeed. Grant, February 20, 2003, Exemption No. 3784L.

Docket No.: FAA-2003-14309.

Petitioner: Kenmore Air Harbor, Inc. (Kenmore).

Section of 14 CFR Affected: 14 CFR 135.203(a)(1).

Description of Relief Sought/Disposition: To permit Kenmore to conduct seaplane operations under visual flight rules, outside controlled airspace, over water, and at an altitude below 500 feet above ground level. Grant, February 24, 2003, Exemption No. 2528L.

Docket No.: FAA-2001-9349.

Petitioner: TWA Airlines, L.L.C.

Section of 14 CFR Affected: 14 CFR 121.433(c)(1)(iii), 121.441(a)(1) and (b)(1), and appendix F.

Description of Relief Sought/Disposition: To permit TWA to combine recurrent flight and ground training and proficiency checks for TWA's flight crew members in a single annual training and proficiency evaluation program. Grant, February 24, 2003, Exemption No. 7481A.

Docket No.: FAA-2003-14219.

Petitioner: Douglas M. Melson.

Section of 14 CFR Affected: 14 CFR 121.383(c).

Description of Relief Sought/Disposition: To permit you to act as a pilot in operations conducted under part 121 after reaching your 60th birthday. Denial, February 24, 2003, Exemption No. 7979.

Docket No.: FAA-2001-9159.

Petitioner: Omniflight Helicopters, Inc.

Section of 14 CFR Affected: 14 CFR 135.143(c)(2).

Description of Relief Sought/Disposition: To permit Omniflight to operate certain aircraft under part 135 without a TSO-C112 (Mode S) transponder installed on those aircraft. Grant, February 25, 2003, Exemption No. 6653C.

Docket No.: FAA-2000-8433.

Petitioner: New Air Helicopters, LLC (NAH).

Section of 14 CFR Affected: 14 CFR 135.143(c)(2).

Description of Relief Sought/Disposition: To permit NAH to operate certain aircraft under part 135 without a TSO-C112 (Mode S) transponder installed on those aircraft. Grant, February 25, 2003, Exemption No. 6884B.

Docket No.: FAA-2003-14463.

Petitioner: GTA Air, Inc.

Section of 14 CFR Affected: 14 CFR 135.143(c)(2).

Description of Relief Sought/Disposition: To permit GTA to operate certain aircraft under part 135 without a TSO-C112 (Mode S) transponder installed on those aircraft. Grant, February 25, 2003, Exemption No. 7988.

Docket No.: FAA-2003-14251.

Petitioner: Frontline Aviation, Inc.

Section of 14 CFR Affected: 14 CFR 135.143(c)(2).

Description of Relief Sought/Disposition: To permit Frontline to operate certain aircraft under part 135 without a TSO-C112 (Mode S) transponder installed on those aircraft. Grant, February 25, 2003, Exemption No. 7987.

Docket No.: FAA-2003-14279.

Petitioner: South Aero, Inc.

Section of 14 CFR Affected: 14 CFR 135.143(c)(2).

Description of Relief Sought/Disposition: To permit South Aero to operate certain aircraft under part 135 without a TSO-C112 (Mode S) transponder installed on those aircraft. Grant, February 25, 2003, Exemption No. 7985.

Docket No.: FAA-2001-9228.

Petitioner: Bridger Aviation Services, Inc. (Bridger).

Section of 14 CFR Affected: 14 CFR 135.143(c)(2).

Description of Relief Sought/Disposition: To permit Bridger to operate certain aircraft under part 135 without a TSO-C112 (Mode S) transponder installed on those aircraft. Grant, February 25, 2003, Exemption No. 7519A.

Docket No.: FAA-2003-14300.

Petitioner: Aircraft Owners and Pilots Association (AOPA).

Section of 14 CFR Affected: 14 CFR 61.3(c) and 61.23(a)(3)(ii) and (iii).

Description of Relief Sought/Disposition: To permit each AOPA member to conduct recreational pilot flight activities using a current and valid U.S. driver's license instead of an FAA-issued medical certificate. Denial, March 3, 2003, Exemption No. 7998.

Docket No.: FAA-2002-13467.

Petitioner: Experimental Aircraft Association, Inc. (EAA).

Section of 14 CFR Affected: 14 CFR 61.23.

Description of Relief Sought/Disposition: To permit each EAA member to conduct recreational pilot flight activities using a current and valid U.S. driver's license instead of an FAA-issued medical certificate. Denial, March 3, 2003, Exemption No. 7997.

Docket No.: FAA-2003-14354.

Petitioner: Joel A. Schneider, MD.

Section of 14 CFR Affected: 14 CFR 91.9 and 91.531.

Description of Relief Sought/Disposition: To permit certain qualified pilots of Dassault Mystere-Falcon 10 aircraft (Falcon 10) (serial Nos. 001 through 226) to operate those aircraft without a pilot who is designated as second in command. Denial, February 25, 2003, Exemption No. 7994.

Docket No.: FAA-2003-14220.

Petitioner: Gerald S. Ross.

Section of 14 CFR Affected: 14 CFR 121.383(c).

Description of Relief Sought/Disposition: To permit Gerald S. Ross to act as a pilot in operations conducted under part 121 after reaching his 60th birthday. Grant/February 27, 2003, Exemption No. 7992.

Docket No.: FAA-2000-8454.

Petitioner: United Air Lines, Inc. (United).

Section of 14 CFR Affected: 14 CFR 121.434(c)(1)(ii).

Description of Relief Sought/Disposition: To permit United to substitute a qualified and authorized check airman in place of an FAA inspector to observe a qualifying pilot-in-command (PIC) while that PIC is performing prescribed duties during at least one flight leg that includes a takeoff and a landing when completing initial or upgrade training as specified in § 121.424. Grant, February 28, 2003, Exemption No. 6570E.

Docket No.: FAA-2003-14249.

Petitioner: Dan E. Chauvet.

Section of 14 CFR Affected: 14 CFR 91.109(a) and (b)(3).

Description of Relief Sought/Disposition: To permit Dan E. Chauvet to conduct certain flight instruction and simulated instrument flights to meet recent experience requirements in Beechcraft Baron, Bonanza, Debonair, and Travel Air aircraft equipped with a functioning throwover control wheel instead of functioning dual controls. Grant, February 28, 2003, Exemption No. 7990.

Docket No.: FAA-2003-14252.

Petitioner: Jack Oliphant.

Section of 14 CFR Affected: 14 CFR 91.109(a).

Description of Relief Sought/Disposition: To permit Jack Oliphant to conduct certain flight instruction in Beechcraft Bonanza aircraft equipped with a functioning throwover control wheel instead of functioning dual controls. Grant, February 28, 2003, Exemption No. 7991.

Docket No.: FAA-2002-13347.

Petitioner: Executive Jet Management, dba (EJM).

Section of 14 CFR Affected: 14 CFR 135.145(a).

Description of Relief Sought/Disposition: To permit EJM to place turbojet airplanes in service under part 135 without conducting proving tests. Denial, March 10, 2003, Exemption No. 7999.

Docket No.: FAA-2001-9227.

Petitioner: Colgan Air Services (Colgan).

Section of 14 CFR Affected: 14 CFR 135.143(c)(2).

Description of Relief Sought/Disposition: To permit Colgan to operate certain aircraft under part 135 without a TSO-C112 (Mode S) transponder installed on those aircraft. Grant, March 11, 2003, Exemption No. 7515A.

Docket No.: FAA-2001-9229.

Petitioner: Trail Ridge Air, Inc. (TRA).

Section of 14 CFR Affected: 14 CFR 135.143(c)(2).

Description of Relief Sought/Disposition: To permit TRA to operate certain aircraft under part 135 without a TSO-C112 (Mode S) transponder installed on those aircraft. Grant, March 11, 2003, Exemption No. 7514A.

Docket No.: FAA-2003-14605.

Petitioner: Planemasters, Ltd.

Section of 14 CFR Affected: 14 CFR 135.143(c)(2).

Description of Relief Sought/Disposition: To permit Planemasters to operate certain aircraft under part 135 without a TSO-C112 (Mode S) transponder installed on those aircraft. Grant, March 11, 2003, Exemption No. 7976.

Docket No.: FAA-2001-9364.

Petitioner: Jacqueline A. Julio.

Section of 14 CFR Affected: 14 CFR 121.311(b).

Description of Relief Sought/Disposition: To permit Ms. Jacqueline A. Julio to be secured by a personal safety belt and held on her caregiver's lap while aboard an aircraft although she has reached her second birthday. Grant, March 11, 2003, Exemption No. 5195F.

Docket No.: FAA-2003-14641.

Petitioner: Aris, Inc.

Section of 14 CFR Affected: 14 CFR 135.143(c)(2).

Description of Relief Sought/Disposition: To permit Aris to operate certain aircraft under part 135 without a TSO-C112 (Mode S) transponder installed on those aircraft. Grant, March 11, 2003, Exemption No. 7962.

Docket No.: FAA-2001-9096.

Petitioner: Air Transport Association of America, Inc.

Section of 14 CFR Affected: 14 CFR 121.485(b).

Description of Relief Sought/Disposition: To permit ATA-member airlines and other similarly situated part 121 air carries to conduct flights of less than 12 hours' duration with an airplane having a flightcrew of three or more pilots and an additional flight crewmember without requiring the rest period following that flight to be twice the hours flown since the last rest period at each flight crewmember's home base. Grant, March 11, 2003, Exemption No. 4317I.

Docket No.: FAA-2001-8612.

Petitioner: William L. Hale.

Section of 14 CFR Affected: 14 CFR 91.109(a) and (b)(3).

Description of Relief Sought/Disposition: To permit William L. Hale to conduct certain flight instruction and simulated instrument flights to meet recent instrument experience requirements in certain Beechcraft airplanes equipped with a functioning throwover control wheel in place of functioning dual controls. Grant, March 11, 2003, Exemption No. 6897B.

Docket No.: FAA-2003-14616.

Petitioner: Rotocraft Leasing Company, L.L.C. (RLC).

Section of 14 CFR Affected: 14 CFR 135.143(c)(2).

Description of Relief Sought/Disposition: To permit RLC to operate certain aircraft under part 135 without a TSO-C112 (Mode S) transponder installed on those aircraft. Grant, March 14, 2003, Exemption No. 8003.

Docket No.: FAA-2003-14653.

Petitioner: Tex Star Air Freight, Inc. (Tex Star).

Section of 14 CFR Affected: 14 CFR 135.143(c)(2).

Description of Relief Sought/Disposition: To permit Tex Star to operate certain aircraft under part 135 without a TSO-C112 (Mode S) transponder installed on those aircraft. Grant, March 14, 2003, Exemption No. 8002.

Docket No.: FAA-2003-14327.

Petitioner: MG Aviation, Inc. (MGA).

Section of 14 CFR Affected: 14 CFR 135.143(c)(2).

Description of Relief Sought/Disposition: To permit MGA to operate certain aircraft under part 135 without a TSO-C112 (Mode S) transponder installed on those aircraft. Grant, March 3, 2003, Exemption No. 7995.

Docket No.: FAA-2003-14474.

Petitioner: Leon A. Boyd.

Section of 14 CFR Affected: 14 CFR 121.383 (c).

Description of Relief Sought/Disposition: To permit Leon A. Boyd to act as a pilot in operations conducted under part 121 after reaching his 60th birthday. Denial, March 3, 2003, Exemption No. 7996.

Docket No.: FAA-2001-9030.

Petitioner: State of Alaska, Division of Forestry (DOF).

Section of 14 CFR Affected: 14 CFR 91.119(b) and (c).

Description of Relief Sought/Disposition: To permit pilots employed by DOF or acting under a DOF contract to conduct certain firefighting operations. Such operations require the aerial application of fire retardants or water over congested areas and require cargo paradrops and/or the aerial application of fire retardants or water over other than congested areas in the State of Alaska. Grant, March 3, 2003, Exemption No. 4063D.

Docket No.: FAA-2001-9438.

Petitioner: Aberdeen Flying Service (Aberdeen).

Section of 14 CFR Affected: 14 CFR 135.143(c)(2).

Description of Relief Sought/Disposition: To permit Aberdeen to operate certain aircraft under part 135 without a TSO-C-112 (Mode S) transponder installed on those aircraft. Grant, March 3, 2003, Exemption No. 7550A.

Docket No.: FAA-2000-8182.

Petitioner: Washoe County Sheriff's Office.

Section of 14 CFR Affected: 14 CFR 61.113 (e).

Description of Relief Sought/Disposition: To permit members of the Washoe County Sheriff's Air Squadron who hold private pilot certificates to continue to be reimbursed for fuel, oil, and maintenance expenses incurred while performing search and location missions for the Sheriff's Office. Grant, March 11, 2003, Exemption No. 7473A.

Docket No.: FAA-2001-8863.

Petitioner: Department of the Navy.

Section of 14 CFR Affected: 14 CFR 91.215(c).

Description of Relief Sought/Disposition: To permit the Navy to provide realistic air combat training in airspace defined in the exemption as the “Transponder-Off Area.” Grant, March 25, 2003, Exemption No. 6741B.

Docket No.: FAA-2001-8966.

Petitioner: M. Shannon & Associates.

Section of 14 CFR Affected: 14 CFR 91.9(a) and 91.531(a)(1) and (2).

Description of Relief Sought/Disposition: To permit Shannon and certain operators of Cessna Model 500, 550, and S550 Citation airplanes to operate those airplanes without a pilot designated as second in command. Grant, March 28, 2003, Exemption No. 6480E.

Docket No.: FAA-2002-13323.

Petitioner: Eagle Jet Charter, Inc., dba Scenic Airlines, Inc. (EJC).

Section of 14 CFR Affected: 14 CFR 121.313(j)(1).

Description of Relief Sought/Disposition: To permit EJC to operate three Fokker F-27 airplanes after April 9, 2003. Grant, April 2, 2003, Exemption No. 8011.

Docket No.: FAA-2001-9463.

Petitioner: Fare Share, Ltd. (FSL).

Section of 14 CFR Affected: 14 CFR 135.143(c)(2).

Description of Relief Sought/Disposition: To permit FSL to operate certain aircraft under part 135 without a TSO-C112 (Mode S) transponder installed on those aircraft. Grant, April 1, 2003, Exemption No. 7542A.

Docket No.: FAA-2001-10058.

Petitioner: Rhoades Aviation, Inc.

Section of 14 CFR Affected: 14 CFR 135.143(c)(2).

Description of Relief Sought/Disposition: To permit Rhoades to operate certain aircraft under part 135 without a TSO-C112 (Mode S) transponder installed on those aircraft. Grant, April 1, 2003, Exemption No. 7614A.

Docket No.: FAA-2001-9097.

Petitioner: Federal Express Corporation (FedEx).

Section of 14 CFR Affected: 14 CFR 135.143(c)(2).

Description of Relief Sought/Disposition: To permit FedEx to operate certain aircraft under part 135 without a TSO-C112 (Mode S) transponder installed on those aircraft. Grant, April 1, 2003, Exemption No. 5711G.

Docket No.: FAA-2003-14676.

Petitioner: Western Oregon Aviation (WOA).

Section of 14 CFR Affected: 14 CFR 135.143(c)(2).

Description of Relief Sought/Disposition: To permit WOA to operate certain aircraft under part 135 without a TSO-C112 (Mode S) transponder installed on those aircraft. Grant, April 1, 2003, Exemption No. 8008.

Docket No.: FAA-2003-14770.

Petitioner: Blue Sky Helicopter, Inc.

Section of 14 CFR Affected: 14 CFR 135.143(c)(2).

Description of Relief Sought/Disposition: To permit Blue Sky to operate certain aircraft under part 135 without a TSO-C112 (Mode S) transponder installed on those aircraft. Grant, April 1, 2003, Exemption No. 8009.

Docket No.: FAA-2003-14728.

Petitioner: LonAire Flying Service, Inc.

Section of 14 CFR Affected: 14 CFR 135.143(c)(2).

Description of Relief Sought/Disposition: To permit LonAire to operate certain aircraft under part 135 without a TSO-C112 (Mode S) transponder installed on those aircraft. Grant, April 1, 2003, Exemption No. 8010.

Docket No.: FAA-2003-14681.

Petitioner: Royal Jordanian Airlines (RJA).

Section of 14 CFR Affected: 14 CFR 129.28(c).

Description of Relief Sought/Disposition: To permit RJA to operate its Airbus 340 and 310 airplanes after the April 9, 2003, compliance date for reinforced flight deck doors. Denial, April 8, 2003, Exemption No. 8022.

Docket No.: FAA-2003-14820.

Petitioner: Dutch Caribbean Airline N.V. (DCA).

Section of 14 CFR Affected: 14 CFR 129.28(c).

Description of Relief Sought/Disposition: To permit DCA to operate three MD-80 aircraft after the April 9, 2003, compliance date for reinforced flight deck doors. Denial, April 8, 2003, Exemption No. 8023.

Docket No.: FAA-2003-14643.

Petitioner: Aeroflot.

Section of 14 CFR Affected: 14 CFR 129.28(c).

Description of Relief Sought/Disposition: To permit Aeroflot to operate some of its Boeing 767 and Airbus 310 aircraft after the April 9, 2003, compliance date for reinforced flight deck doors. Denial, April 8, 2003, Exemption No. 8020.

Docket No.: FAA-2003-14692.

Petitioner: Air Luxor.

Section of 14 CFR Affected: 14 CFR 129.28(c).

Description of Relief Sought/Disposition: To permit Air Luxor to operate its Lockheed L1011-500 aircraft after the April 9, 2003, compliance date for reinforced flight deck doors. Denial, April 7, 2003, Exemption No. 8013.

Docket No.: FAA-2003-14709.

Petitioner: El Al Israel Airlines.

Section of 14 CFR Affected: 14 CFR 129.28(c).

Description of Relief Sought/Disposition: To permit El Al to operate three Boeing 747-200 classic airplanes after the April 9, 2003, compliance date for reinforced flight deck doors. Denial, April 7, 2003, Exemption No. 8014.

Docket No.: FAA-2003-14498.

Petitioner: Aeromexico (AMA).

Section of 14 CFR Affected: 14 CFR 129.28(b) and (c).

Description of Relief Sought/Disposition: To permit AMA to operate some of its MD-80 aircraft after the April 9, 2003, compliance date for reinforced flight deck doors. Denial, April 8, 2003, Exemption No. 8019.

Docket No.: FAA-2003-14660.

Petitioner: Pakistan International Airlines (PIA).

Section of 14 CFR Affected: 14 CFR 129.28(c).

Description of Relief Sought/Disposition: To permit PIA to operate its fleet of Boeing 747-200 Combi, Boeing 747-300 and Airbus 310-300 aircraft after the April 9, 2003, compliance date for reinforced flight deck doors. Denial, April 8, 2003, Exemption No. 8021.

Docket No.: FAA-2003-14545.

Petitioner: Temsco Helicopters, Inc.

Section of 14 CFR Affected: 14 CFR 135.143(c)(2).

Description of Relief Sought/Disposition: To permit Temsco to operate certain aircraft under part 135 without a TSO-C112 (Mode S) transponder installed on those aircraft. Grant, February 27, 2003, Exemption No. 7993.

[FR Doc. 03-12489 Filed 5-19-03; 8:45 am]

BILLING CODE 4910-13-P